GENERAL SERVICES ADMINISTRATION

[Notice-PBS-2024-17; Docket No. 2024-0002; Sequence No. 51]

Notice of Availability of the Final Environmental Impact Statement for the Proposed Modernization of the Bridge of The Americas Land Port of Entry, El Paso, Texas

AGENCY: Office of Public Buildings Service (PBS), General Services Administration (GSA).

ACTION: Notice of availability.

SUMMARY: The GSA, in cooperation with the U.S. Customs and Border Protection, the U.S. International Boundary and Water Commission and in accordance with the National Environmental Policy Act (NEPA) of 1969, announces the availability of the Final Environmental Impact Statement (EIS) for the proposed modernization of the BOTA LPOE in El Paso, Texas and by this notice is announcing the start of a 30-day waiting period.

DATES: The date of the publication by the Environmental Protection Agency (EPA) in the Federal Register; Friday January 3, 2025 with the end of the 30-day period being Monday February 3, 2025.

ADDRESSES: The Final EIS is available on the GSA project website at: gsa.gov/bota under Project News.

FOR FURTHER INFORMATION CONTACT: Karla R. Carmichael, NEPA Program Manager, Environmental, Fire and Safety & Health Branch, GSA/PBS, Facilities Management and Services Programs Division, Greater Southwest Region 7, 819 Taylor St, Fort Worth, TX, 76102 or via telephone at 817-822-1372. Email: bota.nepacomments@gsa.gov.

SUPPLEMENTARY INFORMATION:

Background

On November 6, 2021, Congress passed the Bipartisan Infrastructure Law (BIL), also known as the Infrastructure Investment and Jobs Act (IIJA). On November 15, 2021, the President signed Executive Order (E.O.) 14052 “Implementation of the Infrastructure Investment and Jobs Act.” On December 13, 2021, the President signed E.O. 14508 “Transforming Federal Customer Experience and Service Delivery to Rebuild Trust in Government.” On February 25, 2022, President Biden and the GSA announced the list of major LPOE projects funded by the BIL. This included the Bridge of the Americas (BOTA) LPOE in El Paso, Texas.

The Environmental Impact Statement (EIS) has been prepared in accordance with section 102 of the National Environmental Policy Act (NEPA) of 1969 (42 United States Code [U.S.C.] 4321 to 4370d), as implemented by the regulations promulgated by the Council on Environmental Quality (CEQ) (40 Code of Federal Regulations [CFR] 1500-1508). The principal objectives of NEPA are to ensure the careful consideration of environmental aspects of proposed actions in federal decision-making processes and to make environmental information available to decision makers and the public before decisions are made and actions are taken.

Additionally, this EIS has been prepared in accordance with GSA NEPA guidelines (GSA Order ADM 1095.1F and the Public Buildings Service [PBS] NEPA Desk Guide, both dated October 1999) and serves as a mechanism for compliance with the National Historic Preservation Act (NHPA) of 1966 (as amended) and other relevant laws and/or regulations.

Purpose and Need for Action

The purpose of the proposed action is for the GSA to support the U.S. Customs and Border Protection (CBP) mission by bringing the BOTA LPOE infrastructure in line with current CBP land port design standards (i.e., CBP Land Port of Entry Design Standard) and operational requirements while addressing existing deficiencies identified with the ongoing port operations. In order to bring the BOTA LPOE in line with CBP's design standards and operational requirements, action is needed to satisfy the following overriding needs:

• Improve the capacity and functionality of the LPOE to meet future public demand, while maintaining the capability to meet border security initiatives.

• Ensure the safety and security for the employees and the travelling public.

Proposed Action and Alternatives Development

As part of project planning, the GSA developed two (2) action alternatives as potential means of implementing the proposed action. The no action alternative has also been considered in the EIS. Both action alternatives include the phased razing of all existing buildings/structures and infrastructure within the existing LPOE boundaries and construction of new buildings/structures and supporting infrastructure. Both action alternatives also include minimal land acquisition in areas immediately adjacent to the port.

Summary of Potential Impacts

The EIS has identified, describes, and analyzes the potential effects of the action alternatives developed to implement the proposed action and the no action alternative. This includes direct, indirect, and cumulative effects. GSA identified the following resources/issues for analysis of both beneficial and adverse potential impacts and the results are summarized in the Final EIS:

• Hazardous Materials, Waste, and/or Site Contamination

• Socioeconomics (including Environmental Justice)

• Public Services, Infrastructure, and Utilities

• Surface Waters, Drainage, and Floodplains

• Land Use and Zoning (including Visual and Aesthetics)

• Traffic (Vehicular and Pedestrian), Transportation, and Parking

• Air Quality (including Greenhouse Gas Emissions)

• Noise and Vibration

• Cultural and Historic Resources

The EIS documents measures that could potentially avoid, minimize, or mitigate any identified adverse impacts.

Michael Clardy,
Director, Facilities Management Division (7PM), General Services Administration-Public Building Service, Greater Southwest Region.

[FR Doc. 2024-31568 Filed 1-2-25; 8:45 am]

BILLING CODE 6820-AY-P